DEPARTMENT OF TRANSPORTATION

Office of the Secretary

Aviation Proceedings, Agreements Filed the Week Ending February 9, 2007

The following Agreements were filed with the Department of Transportation under the Sections 412 and 414 of the Federal Aviation Act, as amended (49 U.S.C. 1382 and 1384) and procedures governing proceedings to enforce these provisions. Answers may be filed within 21 days after the filing of the application.

Docket Number: OST-2007-27218.

Date Filed: February 6, 2007.

Parties: Members of the International Air Transport Association.

Subject: Mail Vote 526—Resolution 010j, TC3 Japan, Korea-South East Asia, Special Passenger Amending Resolution, Between Hong Kong SAR and Korea (Rep. of); Intended effective date: 15 February 2007.

Renee V. Wright,
Program Manager, Docket Operations, Federal Register Liaison.

[FR Doc. E7-4073 Filed 3-6-07; 8:45 am]

BILLING CODE 4910-9X-P